Proclamation 7603 of October 4, 2001

Child Health Day, 2002

By the President of the United States of America

A Proclamation

On Child Health Day, we renew our commitment to the well-being and safety of our children. Parents, families, teachers, and neighbors all play important roles in preparing children to face life's physical, spiritual, intellectual, and emotional demands. For the future of our country, we must work together to provide our young people with the knowledge and skills they need to be safe, self-confident, and successful.

From maintaining a healthy environment and high safety standards to providing immunizations and quality health care, children rely on our vigilance and support. Each year, 30 million children require emergency care due to acute illness and injury. We can all take important steps to help prevent these accidents and to improve the health and safety of young Americans.

Parents and other caregivers should be aware of the latest safety precautions and pay careful attention to consumer safety warnings. They should always secure infants, toddlers, and small children in safety seats and booster seats. Children should be taught always to wear their seatbelts when riding in a vehicle and to use protective gear when riding a bicycle, roller blading, skate boarding, playing sports, and participating in other similar activities. Parents should set a good example by refraining from smoking and should teach their children about the health risks of tobacco, drugs, and alcohol.

Child obesity has become a serious problem in this country. About 8 million young Americans—almost 15 percent of all children—are overweight. Obesity can cause medical complications that can lead to hospitalization for type 2 diabetes, sleep apnea, and asthma. Ensuring regular participation in physical activity can help children manage weight, control blood pressure, and maintain healthy bones, muscles, and joints.

My Administration is strongly committed to advancing programs that help children discover and understand the benefits of healthy living. The recently introduced HealthierUS Initiative will help Americans improve their health and quality of life through modest improvements in physical activity, nutrition, getting preventive screenings, and making healthy choices. Families play a vital role and can help to promote and encourage these beneficial habits.

By committing ourselves to health and safety, we better enable young people to achieve their goals, live longer, fuller lives, and we strengthen our Nation. The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 7, 2002, as Child Health Day. On this day, and on every day throughout the year, I call upon families, schools, child health professionals, communities, and governments to help all of our children discover the rewards of good health and wellness.

IN WITNESS WHEREOF, I have hereunto set my hand this fourth day of October, in the year of our Lord two thousand two, and of the Independence of the United States of America the two hundred and twenty-seventh.

B

[FR Doc. 02-25898

Filed 10-8-02; 8:45 am]

Billing code 3195-01-P